DEPARTMENT OF HEALTH AND HUMAN SERVICES

[Document Identifier: OS-0990-0476]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 3, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-0476-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: ASPA COVID-19 Public Education Campaign Market Research.

Type of Collection: Revision.

OMB No. 0990-0476.

Abstract:

The Department of Health and Human Services, Office of the Assistant Secretary for Public Affairs. This submission contains five parts: 1. COVID-19 Current Events Tracker; 2. Foundational Focus Groups/Interviews/Dyads; 3. Copy Testing Surveys; 4. Message Matrix Surveys; and 5. Creative Testing Surveys and Experiments. The original package included items 1-3. We are submitting this revision to add items 4 (Message Matrix Surveys) and 5 (Creative Testing Surveys and Experiments) to this collection. All data collection will be from individuals.

Current Events Tracker: The primary purpose of the COVID-19 Current Events Tracker (CET) survey is to continuously track key metrics of importance to the Campaign, including vaccine confidence, familiarity with and trust in HHS, and the impact of external events on key attitudes and behaviors among U.S. adults. The CET involves weekly data collection over 3 years.

Foundational Focus Groups, Interviews, and/or Dyads: The primary purpose is to collect information to inform the Campaign about audience risk knowledge, perceptions, current behaviors, and barriers and motivators to healthy behaviors (including COVID-19 vaccination), to inform the development of Campaign messages and strategy. Over 3 years, we will conduct up to 20 rounds of data collection.

Copy Testing Surveys: Prior to placing Campaign advertisements in market, ASPA will conduct copy testing surveys to ensure the final Campaign messages have the intended effect on target attitudes and behaviors. The copy testing survey will field for a maximum of 36 waves over 3 years.

Message Matrix Surveys: The purpose of the Messaging Matrix surveys is to evaluate, validate, and prioritize Campaign messages for various target audiences. Findings from these surveys will be used to inform the development of Campaign messages and strategy. ASPA will conduct up to 9 Messaging Matrix survey under this package.

Creative Testing Surveys and Experiments: The purpose of the Creative Testing Surveys and Experiments is to assess participant reactions to various Campaign materials to inform the selection and development of creative concepts, messages, or material format used for campaign outreach to key audiences. ASPA will conduct up to 6 waves of data collection under this package.

Estimated Annualized Burden Table

Current Events Tracker

For the CET we estimate that 1,000 complete respondents × 0.12 hours per complete survey submission = approximately 120 burden hours associated with completing this survey each wave. No separate screening of participants will be required because Ipsos stores panel variables that determine the eligibility of each panel member without the need for a screener instrument. Only eligible panel members will be invited to take the survey. Over 138 total waves, the total burden is estimated to be approximately 16,560 total burden hours.

Type of respondent | Number of respondents | Number responses per respondent | Average burden per response (in hours) | Total burden hours
Survey Completes: Adults 18+ | 1,000 | 1 | 0.12 | 120
Total, all Waves (138) | 138,000 | 1 | 0.12 | 16,560

Foundational Focus Groups, Interviews, and/or Dyads

For the foundational focus groups, we estimate screening a maximum of 2,500 potential respondents × .09 hours (5 minutes) = 225 hours associated with screening participants during each round. In addition, each round will include a maximum of 108 respondents × 1.5 hours per focus group = 162 burden hours associated with the discussion for each round of focus groups. (Note that the exact burden hours will vary depending on the type of study conducted; these estimates serve as a maximum number of participants/hours because in-depth interviews or dyads would involve fewer participants). Over the course of the Campaign, this will amount to a maximum of 20 rounds of qualitative research, for a total of 7,740 burden hours.

Type of respondent | Number of respondents | Number responses per respondent | Average burden per response (in hours) | Total burden hours
FG Screening: Individuals in the reference audience | 1,250 | 1 | 0.09 | 112.5
FG Screening: Individuals in priority populations | 1,250 | 1 | 0.09 | 112.5
FG Participants: Individuals in the reference audience | 54 | 1 | 1.5 | 81
FG Participants: Individuals in priority populations | 54 | 1 | 1.5 | 81
Total, per round | 2,500 | 1 | .155 | 387.5
Total, all rounds (20) | 50,000 | 1 | .155 | 7,750
Focus group participants are also included in the focus group screening, so are only counted once toward the total number of respondents.
.1548 is approximately 9.3 minutes; it is the weighted average over the screener and interview for all participants.

Copy Testing Surveys

For the copy testing survey, we estimate screening 15,000 potential respondents × .03 hours (2 minutes) = 450 hours associated with screening survey participants during each wave. Note that this is a maximum estimate that may be necessary to find members of particularly small audiences of interest. In addition, we will obtain 1,500 respondents × .33 hours (20 minutes) per submission = 495 hours associated with completed surveys in each wave of Campaign message testing. Over the course of the Campaign, this will amount to a maximum of 36 Waves, for a total of 34,020 burden hours.

Type of respondent | Number of respondents | Number responses per respondent | Average burden per response (in hours) | Total burden hours
Survey Screener | 15,000 | 1 | 0.03 | 450
Survey Completes | 1,500 | 1 | 0.33 | 495
Total, one Wave | 15,000 | 1 | 0.063 | 945
Total, all Waves (36) | 540,000 | 1 | 0.063 | 34,020
Survey completes are also included in the survey screener, so are only counted once toward the total number of respondents.
.063 is approximately 3.8 minutes; it is the weighted average over the screener and survey for all participants.

Message Matrices

Each Message Matrix survey will recruit up to 4,000 respondents. We estimate screening 42,000 potential respondents × 0.03 hours (2 minutes) = 1,400 hours associated with screening survey participants. Note that this is a maximum estimate that may be necessary to find members of particularly small audiences of interest. In addition, we will obtain survey responses from up to 4,000 respondents: 4,000 × 0.33 hours (20 minutes) = 1,333 hours associated with survey completion. Over the course of the Campaign, this will amount to a maximum of 9 rounds of data collection, for a total of 24,600 burden hours.

Type of respondent | Number of respondents | Number responses per respondent | Average burden per response (in hours) | Total burden hours
Survey Screener | 42,000 | 1 | 0.03 | 1,400
Survey Completes: Adults 18+ | 4,000 | 1 | 0.33 | 1,333
Total, per round | 42,000 | 1 | 0.065 | 2,733
Total, all rounds (9) | 378,000 | 1 | 0.065 | 24,600
Survey completes are also included in the survey screener, so are only counted once toward the total number of respondents.
.065 is approximately 3.9 minutes; it is the weighted average over the screener and survey for all participants.

Creative Testing Surveys and Experiments

Each Creative Testing Survey or Experiment will recruit up to 3,000 respondents. We estimate screening 42,000 potential respondents × 0.03 hours (2 minutes) = 1,400 hours associated with screening survey participants. Note that this is a maximum estimate that may be necessary to find members of particularly small audiences of interest. In addition, we will obtain survey responses from up to 3,000 respondents: 3,000 × 0.33 hours (20 minutes) = 1,000 hours associated with survey completion. Over the course of the Campaign, this will amount to a maximum of 6 rounds of data collection, for a total of 14,400 burden hours.

Type of respondent | Number of respondents | Number responses per respondent | Average burden per response (in hours) | Total burden hours
Survey Screener | 42,000 | 1 | 0.03 | 1,400
Survey Completes: Adults 18+ | 3,000 | 1 | 0.33 | 1,000
Total, per round | 42,000 | 1 | 0.057 | 2,400
Total, all rounds (6) | 252,000 | 1 | 0.057 | 14,400
Survey completes are also included in the survey screener, so are only counted once toward the total number of respondents.
.057 is approximately 3.4 minutes; it is the weighted average over the screener and survey for all participants.

Sum of All Studies

Total Respondents: 1,358,000.

Total Burden Hours: 97,330.

Sherrette A. Funn,
Paperwork Reduction Act Reports Clearance Officer, Office of the Secretary.

[FR Doc. 2023-02108 Filed 1-31-23; 8:45 am]

BILLING CODE 4150-25-P